INTERNATIONAL TRADE COMMISSION

[Investigation Nos. 731-TA-1014 and 1016 (Third Review)]

Polyvinyl Alcohol From China and Japan; Determinations

On the basis of the record ¹ developed in the subject five-year reviews, the United States International Trade Commission (“Commission”) determines, pursuant to the Tariff Act of 1930 (“the Act”), that revocation of the antidumping duty orders on polyvinyl alcohol from China and Japan would be likely to lead to continuation or recurrence of material injury to an industry in the United States within a reasonably foreseeable time.

¹ The record is defined in § 207.2(f) of the Commission's Rules of Practice and Procedure (19 CFR 207.2(f)).

Background

The Commission instituted these reviews on April 1, 2020 (85 FR 18271) and determined on July 6, 2020 that it would conduct full reviews (85 FR 42005, July 13, 2020). Notice of the scheduling of the Commission's reviews and of a public hearing to be held in connection therewith was given by posting copies of the notice in the Office of the Secretary, U.S. International Trade Commission, Washington, DC, and by publishing the notice in the Federal Register on September 22, 2020 (85 FR 59545). Subsequently, the Commission cancelled its previously scheduled hearing following a request on behalf of domestic producers (86 FR 8034, February 3, 2021).

The Commission made these determinations pursuant to section 751(c) of the Act (19 U.S.C. 1675(c)). It completed and filed its determinations in these reviews on March 29, 2021. The views of the Commission are contained in USITC Publication 5173 (March 2021), entitled Polyvinyl Alcohol from China and Japan: Investigation Nos. 731-TA-1014 and 1016 (Third Review).

By order of the Commission.
Issued: March 29, 2021.
Lisa Barton,
Secretary to the Commission.

[FR Doc. 2021-06781 Filed 4-1-21; 8:45 am]

BILLING CODE 7020-02-P